DEPARTMENT OF COMMERCE

Foreign-Trade Zones Board

[Docket 8-2000]

Proposed Foreign-Trade Zone—Waco, Texas; Application and Public Hearing

An application has been submitted to the Foreign-Trade Zones (FTZ) Board (the Board) by the City of Waco, Texas, to establish a general-purpose foreign-trade zone at sites in Waco, Texas, adjacent to the Dallas/Fort Worth Customs port of entry. The application was submitted pursuant to the provisions of the FTZ Act, as amended (19 U.S.C. 81a-81u), and the regulations of the Board (15 CFR Part 400). It was formally filed on March 6, 2000. The applicant is authorized to make the proposal under Texas Revised Civil Statute Article 1446.01.

The proposed zone would be the sixth general-purpose zone in the Dallas/Fort Worth Customs port of entry area. The existing zones are FTZ 39 in Dallas/Ft. Worth (site also in Grayson County) (Grantee: Dallas/Fort Worth International Airport Board, Board Order 133, 43 FR 37478, 8/23/78); FTZ 113 in Ellis County (Grantee: Midlothian Trade Zone Corporation, Board Order 283, 50 FR 300, 1/3/85); FTZ 168 in the Dallas/Ft. Worth, Texas, area (Grantee: Dallas/Fort Worth Maquila Trade Development Corporation, Board Order 491, 55 FR 46974, 11/8/90); FTZ 196 in the Fort Worth area Grantee: Alliance Corridor, Inc., Board Order 651, 58 FR 48826, 9/20/93); and, FTZ 227 in Durant, Oklahoma (Grantee: Rural Enterprises of Oklahoma, Inc., Board Order 947, 63 FR 5929, 2/5/98).

The proposed new zone would consist of 3 sites (409 acres) in Waco: Site 1 (200 acres)—Aviation Parkway East, within the 1,000-acre Texas Aeroplex Industrial Park, adjacent to Highway 84 and within 5 miles of Interstate 35, Waco; Site 2 (139 acres)—Bagby Avenue/MK&T Railroad site, within the 3,000-acre Texas Central Industrial Park, adjacent to Highway 6 and within 1 mile of Interstate 35, Waco; and, Site 3 (70 acres)—Madison-Cooper Airport site, which is part of the 100-acre Regional Airport Industrial Park, on and adjacent to the Waco Regional Airport, Waco. Site 1 is a State Enterprise Zone. Sites 1 and 2 are owned by the Waco Industrial Foundation, and Site 3 is owned by the applicant.

The application indicates a need for foreign-trade zone services in Waco. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on April 19, 2000, at 1:00 p.m., at the City of Waco Civic Center, 100 Washington, Cameron Room, Waco, Texas 76701.

Public comment on the application is invited from interested parties. Submissions (original and 3 copies) shall be addressed to the Board's Executive Secretary at the address below. The closing period for their receipt is May 15, 2000. Rebuttal comments in response to material submitted during the foregoing period may be submitted during the subsequent 15-day period (to May 30, 2000).

A copy of the application and accompanying exhibits will be available during this time for public inspection at the following locations:

Greater Waco Chamber of Commerce, 101 South University Parks Drive, Waco, TX 76701.

Office of the Executive Secretary, Foreign-Trade Zones Board, Room 4008, U.S. Department of Commerce, 14th and Pennsylvania Avenue, NW, Washington, DC 20230.

Dated: March 9, 2000.
Dennis Puccinelli,
Acting Executive Secretary.

[FR Doc. 00-6402 Filed 3-14-00; 8:45 am]

BILLING CODE 3510-DS-P